DEPARTMENT OF COMMERCE

National Oceanic and Atmospheric Administration

RIN: 0648-XA462

New England Fishery Management Council; Public Meeting

AGENCY: National Marine Fisheries Service (NMFS), National Oceanic and Atmospheric Administration (NOAA), Commerce.

ACTION: Notice; public meeting.

SUMMARY: The New England Fishery Management Council (Council) is scheduling a joint public meeting of its Skate Committee and Advisory Panel, in June, 2011, to consider actions affecting New England fisheries in the exclusive economic zone (EEZ). Recommendations from this group will be brought to the full Council for formal consideration and action, if appropriate.

DATES: This meeting will be held on Thursday, June 16, 2011 at 10 a.m.

ADDRESSES: This meeting will be held at the SpringHill Suites, 43 Newbury Street, US 1 North, Peabody, MA 01960; telephone: (978) 535-5000; fax: (978) 535-9610.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Advisory Panel and Skate Oversight Committee will discuss and recommend management measures to include in a 2012-13 skate specifications package, based on ABC specifications approved by the Scientific and Statistical Committee and recent fishery data. The Oversight Committee recommendations will be approved at the June 2011 Council meeting for a specification package or framework adjustment that will be finalized at the September 2011 Council meeting. The committee will also discuss and recommend modifications to the Council's fishery research strategic plan.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: May 24, 2011.
Tracey L. Thompson,
Acting Director, Office of Sustainable Fisheries, National Marine Fisheries Service.

[FR Doc. 2011-13277 Filed 5-27-11; 8:45 am]

BILLING CODE 3510-22-P